DEPARTMENT OF AGRICULTURE

Animal and Plant Health Inspection Service

9 CFR Parts 91 and 161

[Docket No. 99-053-2]

Origin Health Certificates for Livestock Exported From the United States

AGENCY: Animal and Plant Health Inspection Service, USDA.

ACTION: Final rule.

SUMMARY: We are amending the regulations pertaining to animal exports and the standards for accredited veterinarians to allow origin health certificates for animals intended for export from the United States to be valid for more than 30 days in some cases, depending on the testing requirements of the country of destination. This change will align our requirements for export origin health certificates with the testing requirements of importing countries. This action will eliminate the need for exporters to obtain another certificate when animals arrive at the port of embarkation after more than 30 days have elapsed, thereby reducing costs and delays for U.S. livestock exporters who ship animals to certain countries. This change will not increase the risk of infected or exposed animals being exported, since all animals are inspected an additional time before leaving the United States.

EFFECTIVE DATE: April 1, 2002.

FOR FURTHER INFORMATION CONTACT: Dr. Bob Bokma, Coordinator, Americas Region, National Center for Import and Export, VS, APHIS, 4700 River Road Unit 38, Riverdale, MD 20737-1231; (301) 734-8066.

SUPPLEMENTARY INFORMATION:

Background

The regulations in 9 CFR part 91, referred to below as the regulations, prescribe conditions for exporting animals from the United States. Among other things, § 91.3(a) provides that all animals intended for exportation be accompanied from the State of origin to the port of embarkation or border by an origin health certificate issued by an Animal and Plant Health Inspection Service (APHIS) representative or an accredited veterinarian. Origin health certificates attest that the animals in a shipment were inspected prior to export and were found free from any evidence of or exposure to communicable disease. The certificates also include identifying information pertaining to the individual animals in the shipment, as well as all test results, certifications, or other statements required by the country of destination.

The regulations in § 91.3(c) further require that all samples for tests be taken by an APHIS inspector or accredited veterinarian in the State of origin of the export movement and that, with certain exceptions, such sampling and testing be conducted within 30 days prior to the date of the export movement. Exceptions include cases in which the country of destination requires testing more than 30 days prior to the date of export. The regulations in 9 CFR part 161 contain requirements and standards for accredited veterinarians. Accredited veterinarians are authorized by APHIS to perform various types of work such as testing and inspecting animals for and issuing origin health certificates—on behalf of the Federal Government. Section 161.3, paragraph (b), states the length of time that certificates and other documents issued by an accredited veterinarian shall be valid. Prior to this final rule, the timeframe was 30 days from the date of inspection of the animal identified on the document, without exception. This meant that animals intended for export had to be inspected for purposes of the origin health certificate within 30 days prior to the date of export, even when sampling and testing could be conducted earlier.

On April 17, 2000, we published in the Federal Register (65 FR 20384-20387, Docket No. 99-053-1) a proposal to amend § 91.3(a) to allow animals intended for exportation to be inspected for origin health certificates more than 30 days prior to the date of export, in accordance with the testing requirements of the country of destination. In conjunction with this proposed action, we also proposed to amend the language in § 91.3(c) to provide that sampling and testing may be conducted more than 30 days prior to the date of export in instances where a receiving country allows rather than just requires, as the regulations previously stated this to occur. In addition, we proposed replacing the phrase “the date of the movement of the animals for export” with “the date of export” in both 91.3(a) and (c). We proposed this change to clarify that animals must be tested and inspected for origin health certificates 30 days or more, if the receiving country requires or allows it prior to the date they are actually exported, rather than 30 days from the date the animals started in transit to the port of embarkation or border. We further proposed to amend § 161.3(b) to allow origin health certificates issued by accredited veterinarians to be valid for more than 30 days in cases where the Administrator allows the animals identified on the document to be inspected more than 30 days prior to the date of export.

We solicited comments concerning our proposal for 60 days ending June 16, 2000. We received five comments by that date—four from livestock exporters, and one from a representative of a livestock export industry association. All supported the proposed rule, stating that, among other things, the proposed changes would improve their efficiency, eliminate costly delays, and help expedite livestock shipments.

However, two of the commenters indicated that, while our action was a step in the right direction, we did not go far enough. These commenters asserted that APHIS should change the validity timeframe of all U.S. origin health certificates and test results from 30 days to 45 days, unless otherwise required by the importing country. These commenters stated that 30 days is an insufficient amount of time to address the numerous problems that may arise during the export process; for example, if reactor animals need to be retested, or if mistakes or delays occur at the diagnostic laboratory. One of these commenters also asserted that extending the validity of origin health certificates for another 15 days would, in serious outbreak situations, give exporters time to avoid flight cancellation fees imposed by the airlines, and give importers time to reschedule quarantine space without incurring penalties. Moreover, this commenter stated that such a change would give APHIS' National Veterinary Services Laboratories (NVSL) more time to perform the necessary export tests.

One of the commenters also objected to our proposal to change the phrase “date of movement for export” in the regulations to “date of export.” This commenter stated that the “previous interpretation” that tests and origin health certificates remained valid if the animals had started in transit to the port of embarkation or border prior to 30 days from the date of the first test or the date of issuance of the certificate had assisted in facilitating livestock shipments on many occasions. The commenter also asserted that this change would likely contribute to the time problems faced by exporters.

We are making no changes to the final rule based on these comments. We agree that 30 days can be a short amount of time in which to complete the numerous steps involved in the export certification process. More to the point, however, the countries of destination— not APHIS— determine and enforce their own import health requirements, including the timeframes within which test results and export origin health certificates are considered valid.

As stated previously, while we recognize that problems and delays can occur with regard to obtaining the necessary tests, inspection, and other documentation required to certify animals for export, our experience shows that 30 days is not an unreasonable amount of time in most cases to complete the steps involved. For example, it typically takes only about 7 to 10 days to obtain test results for brucellosis, as well as for many of the other diseases of concern to importing countries. Nevertheless, APHIS' NVSL has undertaken a number of initiatives to improve its ability to provide efficient and expeditious service to exporters and other customers. For example, NVSL officials have developed guidelines that address the specific test requirements for exporting swine to China. NVSL officials have also developed a booklet that contains information about all currently available tests and reagents, including the length of time required to conduct each test. This document is available on the NVSL website at http://www.aphis.usda.gov/vs/nvsl. To avoid delays in processing the diagnostic tests necessary for export health certification, exporters are also encouraged to contact NVSL and/or the APHIS area veterinarian in charge in the State of origin to make arrangements for testing well in advance of planned shipping dates. Advance notification is particularly important for tests that are not run on a routine basis, such as those for diseases like Salmonella abortus-equi.

It is ultimately the exporters' responsibility to ensure that he or she complies with all requirements for testing and obtaining the appropriate health certification for animals intended for export. Accordingly, while we recognize that flight and quarantine space cancellations caused by delays in completing the steps involved in the export process can be costly to both exporters and importers, such issues are beyond the scope of APHIS' jurisdiction and this rulemaking action. Finally, it was always our intent that the actual date of export—not the date when animals start in transit to the port of embarkation or border—determine the timeframe within which origin health certificates and test results are deemed valid.

Therefore, for the reasons given in the proposed rule and in this document, we are adopting the proposed rule as a final rule, without change.

Effective Date

This is a substantive rule that relieves restrictions and, pursuant to the provisions of 5 U.S.C. 553, may be made effective less than 30 days after publication in the Federal Register. By extending the validity for origin health certificates issued for animals being exported to certain countries, this rule will make the export process less time consuming and expensive for livestock exporters and marketers. We have determined that approximately 2 weeks are needed to ensure that APHIS field personnel receive official notice of this change in the regulations. Therefore, the Administrator of APHIS has determined that this rule should be made effective 15 days after publication in the Federal Register.

Executive Order 12866 and Regulatory Flexibility Act

This rule has been reviewed under Executive Order 12866. The rule has been determined to be not significant for the purposes of Executive Order 12866 and, therefore, has not been reviewed by the Office of Management and Budget.

This rule amends the regulations in 9 CFR part 91 to allow animals to be inspected for an origin health certificate as early as the country of destination allows or requires sampling or testing to be performed. We are also amending 9 CFR part 161 to allow an origin health certificate to be valid for more than 30 days when animals are allowed to be inspected more than 30 days prior to the date of movement for export in accordance with § 91.3.

Costs

Formerly, exporters who had their animals inspected and obtained an origin health certificate more than 30 days prior to the date of export had to obtain a new origin health certificate when the animals arrived at the port of embarkation or the border. On average, it costs $150 per shipment to have a veterinarian inspect animals for export and issue an origin health certificate. When this final rule becomes effective, the original origin health certificate will still be valid when the animals arrive at the port of embarkation or the border, and the exporter will not incur the costs of obtaining an additional origin health certificate.

Live Animal Exports

United Nations trade data show that U.S. exports of live animals are worth more than $½ billion dollars a year (see tables 1 and 2). On average, U.S. exports of live animals from 1993 through 1999 were distributed as follows: More than 40 percent went to Mexico and Canada, approximately 13.5 percent went to Japan, 2 percent went to Brazil, 1.1 percent went to the Republic of Korea (South Korea), and less than 1 percent went to Turkey, Egypt, or Taiwan. Of these countries, Brazil, Egypt, Japan, South Korea, Taiwan, and Turkey provide for sampling and testing of live animals more than 30 days prior to exportation from the country of origin.

Table 1.—U.S. Exports of Live Animals
[In $1,000]
Year | Mexico | Canada | Brazil | Egypt | Japan | South Korea | Taiwan | Turkey | Rest of the world | Total
1993 | $108,679 | $127,058 | $12,339 | $1,337 | $39,667 | $4,777 | $3,116 | $2,339 | $219,615 | $518,927
1994 | 149,747 | 146,578 | 12,415 | 2,800 | 47,516 | 6,740 | 3,496 | 1,136 | 216,924 | 587,352
1995 | 31,409 | 124,974 | 14,179 | 2,196 | 110,646 | 8,856 | 2,791 | 7,689 | 216,502 | 519,242
1996 | 81,119 | 105,130 | 10,598 | 6,362 | 103,228 | 7,412 | 3,236 | 9,307 | 206,141 | 532,533
1997 | 210,013 | 111,446 | 13,691 | 2,261 | 109,123 | 8,060 | 2,495 | 2,042 | 235,965 | 695,096
1998 | 138,117 | 135,328 | 9,969 | 5,614 | 72,758 | 3,709 | 1,923 | 9,623 | 302,825 | 679,866
1999 | 103,681 | 180,262 | 9,863 | 4,115 | 74,766 | 6,866 | 2,882 | 4,276 | 271,306 | 658,017

Table 2.—U.S. Exports of Live Animals
[As a percentage of total U.S. exports]
Year | Mexico | Canada | Brazil | Egypt | Japan | South Korea | Taiwan | Turkey
1993 | 20.9 | 24.5 | 2.4 | 0.3 | 7.6 | 0.9 | 0.6 | 0.5
1994 | 25.5 | 25.0 | 2.1 | 0.5 | 8.1 | 1.1 | 0.6 | 0.2
1995 | 6.0 | 24.1 | 2.7 | 0.4 | 21.3 | 1.7 | 0.5 | 1.5
1996 | 15.2 | 19.7 | 2.0 | 1.2 | 19.4 | 1.4 | 0.6 | 1.7
1997 | 30.2 | 16.0 | 2.0 | 0.3 | 15.7 | 1.2 | 0.4 | 0.3
1998 | 20.3 | 19.9 | 1.5 | 0.8 | 10.7 | 0.6 | 0.3 | 1.4
1999 | 15.8 | 27.4 | 1.5 | 0.6 | 11.4 | 1.0 | 0.4 | 0.6

Kazakhstan, Turkmenistan, and Uzbekistan also provide for sampling and testing of live animals more than 30 days prior to exportation from the country of origin. These three Central Asian countries imported relatively few live animals from 1993 through 1998 and none from the United States; 1999 import data are not currently available. Table 3 shows the value of live animals imported into these three countries and the rest of the world, based on United Nations data.

Table 3.—Imports of Live Animals
[In $1,000]
Year | Kazakhstan | Turkmenistan | Uzbekistan | All countries
1993 | $600 | $551 |  | $8,965,958
1994 | 29 |  | $400 | 9,556,484
1995 | 427 |  | 200 | 10,020,452
1996 | 137 |  | 200 | 9,925,704
1997 | 231 |  | 200 | 8,991,483
1998 | 433 |  | 200 | 8,991,071
1999 |  |  |  |

This final rule will facilitate live animal exports from the United States to Brazil, Egypt, Japan, Kazakhstan, Korea, Taiwan, Turkey, Turkmenistan, Uzbekistan, and other countries that may allow or require animals to be tested, or samples to be taken for testing, more than 30 days prior to export from the United States. Approximately 17.5 percent of live animal exports from the United States went to these countries in the years 1993 through 1999. We do not know how many of these shipments were made by small entities. However, all U.S. entities, including small entities, who export live animals to these countries will benefit from this rule, albeit in a relatively small way, by not having to bear the costs of an additional origin health certificate, estimated at approximately $150 per shipment.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This final rule contains no information collection or recordkeeping requirements under the Paperwork Reduction Act of 1995 (44 U.S.C. 3501 et seq.).

List of Subjects

9 CFR Part 91

Animal diseases, Animal welfare, Exports, Livestock, Reporting and recordkeeping requirements, Transportation.

9 CFR Part 161

Reporting and recordkeeping requirements, Veterinarians.

Accordingly, we are amending 9 CFR parts 91 and 161 as follows:

PART 91—INSPECTION AND HANDLING OF LIVESTOCK FOR EXPORTATION

1. The authority citation for part 91 is revised to read as follows:

Authority: 21 U.S.C. 105, 112, 113, 114a, 120, 121, 134b, 1343f, 136, 136a, 612, 613, 614, and 618; 46 U.S.C. 3901 and 3902; 49 U.S.C. 1509(d); 7 CFR 2.22, 2.80, and 371.4.

2. In § 91.3, paragraph (a) and the second sentence in paragraph (c) are revised to read as follows:

§ 91.3 General export requirements.

(a) All animals intended for exportation to a foreign country, except by land to Mexico or Canada, must be accompanied from the State of origin of the export movement to the port of embarkation by an origin health certificate. All animals intended for exportation by land to Mexico or Canada must be accompanied from the State of origin of the export movement to the border of the United States by an origin health certificate. The origin health certificate must certify that the animals were inspected within the 30 days prior to the date of export, except as follows: When the Administrator allows sampling or testing to be done more than 30 days prior to the date of export, in accordance with paragraph (c) of this section, then the animals also may be inspected within that same time period, and the origin health certificate will remain valid for that time period. The origin health certificate must certify that the animals were found upon inspection to be healthy and free from evidence of communicable disease and exposure to communicable disease. The origin health certificate must be endorsed by an authorized APHIS veterinarian in the State of origin and must include any test results added by the authorized APHIS veterinarian pursuant to § 161.3(k) of this chapter (any added test results must be initialed by the authorized veterinarian). The origin health certificate must individually identify the animals in the shipment as to species, breed, sex, and age and, if applicable, must also show registration name and number, tattoo markings, or other natural or acquired markings. The origin health certificate must include all test results, certifications, or other statements required by the country of destination.

* * * * *

(c) * * * The samples must be taken and tests must be made within the 30 days prior to the date of export, except that the Administrator may allow such sampling or testing to be conducted more than 30 days prior to the date of export if required or allowed by the receiving country, and the tuberculin test may be conducted within the 90 days prior to the date of export. * * *

* * * * *

PART 161—REQUIREMENTS AND STANDARDS FOR ACCREDITED VETERINARIANS AND SUSPENSION OR REVOCATION OF SUCH ACCREDITATION

3. The authority citation for part 161 continues to read as follows:

Authority: 15 U.S.C. 1828; 21 U.S.C. 105, 111-114, 114a, 114a-1, 115, 116, 120, 121, 125, 134b, 134f, 612, and 613; 7 CFR 2.22, 2.80, and 371.4.

4. In § 161.3, the last two sentences in paragraph (b) are revised to read as follows.

§ 161.3 Standards for accredited veterinarian duties.

* * * * *

(b) * * * Certificates, forms, records, and reports shall be valid for 30 days following the date of inspection of the animal identified on the document, except that origin health certificates may be valid for a longer period of time as provided in § 91.3(a) of this chapter. The accredited veterinarian must distribute copies of certificates, forms, records, and reports according to instructions issued to him or her by the Veterinarian-in-Charge.

* * * * *

Done in Washington, DC, this 11th day of March 2002 .
W. Ron DeHaven,
Acting Administrator, Animal and Plant Health Inspection Service.

[FR Doc. 02-6266 Filed 3-14-02; 8:45 am]

BILLING CODE 3410-34-U